DEPARTMENT OF ENERGY

Federal Energy Regulatory Commission

Combined Notice of Filings #1

Take notice that the Commission received the following electric corporate filings:

Docket Numbers: EC18-145-000.

Applicants: Choice Energy, LLC.

Description: Application for Authorization Under Section 203 of the Federal Power Act, et al. of Choice Energy LLC.

Filed Date: 8/29/18.

Accession Number: 20180829-5158.

Comments Due: 5 p.m. ET 9/19/18.

Docket Numbers: EC18-146-000.

Applicants: PPL Electric Utilities Corporation.

Description: Application for Authorization under Section 203 of the Federal Power Act of PPL Electric Utilities Corporation.

Filed Date: 8/30/18.

Accession Number: 20180830-5169.

Comments Due: 5 p.m. ET 9/20/18.

Docket Numbers: EC18-147-000.

Applicants: Avista Corporation.

Description: Application for Authorization Under Section 203 of the Federal Power Act, et al. of Avista Corporation.

Filed Date: 8/31/18.

Accession Number: 20180831-5081.

Comments Due: 5 p.m. ET 9/21/18.

Docket Numbers: EC18-148-000.

Applicants: Golden Fields Solar II, LLC, Golden Fields Solar III, LLC, Golden Fields Solar IV, LLC, Golden Fields Solar V, LLC.

Description: Application for Authorization under Section 203 of the Federal Power Act for Disposition of Jurisdictional Facilities, et al, of Golden Fields Solar II, LLC, et al.

Filed Date: 8/31/18.

Accession Number: 20180831-5090.

Comments Due: 5 p.m. ET 9/21/18.

Take notice that the Commission received the following electric rate filings:

Docket Numbers: ER17-256-005; ER17-242-005; ER17-243-005; ER17-245-005; ER17-652-005.

Applicants: Darby Power, LLC, Gavin Power, LLC, Lawrenceburg Power, LLC, Waterford Power, LLC, Lightstone Marketing LLC.

Description: Notice of Non-Material Change in Status of Darby Power, LLC, et al.

Filed Date: 8/30/18.

Accession Number: 20180830-5228.

Comments Due: 5 p.m. ET 9/20/18.

Docket Numbers: ER18-1648-001.

Applicants: Midcontinent Independent System Operator, Inc.

Description: Tariff Amendment: 2018-08-29_Deficiency response to Time Limits for Disputes and Resettlements to be effective 11/1/2018.

Filed Date: 8/30/18.

Accession Number: 20180830-5050.

Comments Due: 5 p.m. ET 9/20/18.

Docket Numbers: ER18-2073-001.

Applicants: Midcontinent Independent System Operator, Inc.

Description: Tariff Amendment: 2018-08-31_SA 3134 ETI-Liberty County Solar Project GIA (J483) Amendment to be effective 7/13/2018.

Filed Date: 8/31/18.

Accession Number: 20180831-5078.

Comments Due: 5 p.m. ET 9/21/18.

Docket Numbers: ER18-2075-001.

Applicants: Midcontinent Independent System Operator, Inc.

Description: Tariff Amendment: 2018-08-31_SA 3135 ELL-ELL GIA (J484) Amendment to be effective7/13/2018.

Filed Date: 8/31/18.

Accession Number: 20180831-5094.

Comments Due: 5 p.m. ET 9/21/18.

Docket Numbers: ER18-2076-001.

Applicants: Midcontinent Independent System Operator, Inc.

Description: Tariff Amendment: 2018-08-31_SA 3136 Entergy Texas, Inc-Entergy Texas, Inc GIA (J472) Amendment to be effective 7/13/2018.

Filed Date: 8/31/18.

Accession Number: 20180831-5114.

Comments Due: 5 p.m. ET 9/21/18.

Docket Numbers: ER18-2346-000.

Applicants: AEP Texas Inc.

Description: § 205(d) Rate Filing: AEPTX-Oncor Electric Delivery Company Amended TSA to be effective 8/3/2018.

Filed Date: 8/30/18.

Accession Number: 20180830-5179.

Comments Due: 5 p.m. ET 9/20/18.

Docket Numbers: ER18-2347-000.

Applicants: Southwest Power Pool, Inc.

Description: § 205(d) Rate Filing: 3474 Clarksville Light & Water NITSA NOA to be effective 8/1/2018.

Filed Date: 8/30/18.

Accession Number: 20180830-5180.

Comments Due: 5 p.m. ET 9/20/18.

Docket Numbers: ER18-2348-000.

Applicants: Idaho Power Company.

Description: Tariff Cancellation: Notice of Cancellation of Rate Schedule 166—Goshen-Jefferson Line Rebuild to be effective 10/29/2018.

Filed Date: 8/30/18.

Accession Number: 20180830-5183.

Comments Due: 5 p.m. ET 9/20/18.

Docket Numbers: ER18-2349-000.

Applicants: Southwestern Electric Power Company.

Description: § 205(d) Rate Filing: Bentonville PSA to be effective8/1/2018.

Filed Date: 8/30/18.

Accession Number: 20180830-5194.

Comments Due: 5 p.m. ET 9/20/18.

Docket Numbers: ER18-2350-000.

Applicants: PJM Interconnection, L.L.C.

Description: § 205(d) Rate Filing: Revisions to OATT, Sch. 12-Appx A re: RTEP Projects Approved July 2018 to be effective 11/28/2018.

Filed Date: 8/30/18.

Accession Number: 20180830-5201.

Comments Due: 5 p.m. ET 9/20/18.

Docket Numbers: ER18-2351-000.

Applicants: New York State Electric & Gas Corporation.

Description: § 205(d) Rate Filing: NYSEG-KCE NY1 EPC Agreement to be effective 8/30/2018.

Filed Date: 8/30/18.

Accession Number: 20180830-5203.

Comments Due: 5 p.m. ET 9/20/18.

Docket Numbers: ER18-2352-000.

Applicants: Midcontinent Independent System Operator, Inc.

Description: § 205(d) Rate Filing: 2018-08-30_Real-Time Buybacks of Spinning and Offline Supplemental Reserve to be effective 12/1/2018.

Filed Date: 8/30/18.

Accession Number: 20180830-5204.

Comments Due: 5 p.m. ET 9/20/18.

Docket Numbers: ER18-2353-000.

Applicants: Midcontinent Independent System Operator, Inc.

Description: § 205(d) Rate Filing: 2018-08-30_Price Volatility Make Whole Payments Enhancement to be effective 12/1/2018.

Filed Date: 8/30/18.

Accession Number: 20180830-5205.

Comments Due: 5 p.m. ET 9/20/18.

Docket Numbers: ER18-2354-000.

Applicants: BE CA LLC.

Description: Tariff Cancellation: MBR Tariff Cancellation to be effective 9/30/2018.

Filed Date: 8/30/18.

Accession Number: 20180830-5206.

Comments Due: 5 p.m. ET 9/20/18.

Docket Numbers: ER18-2355-000.

Applicants: Virginia Electric and Power Company, Duke Energy Progress, LLC, PJM Interconnection, L.L.C.

Description: § 205(d) Rate Filing: VEPCO and Duke Energy Process submit amended IA SA No. 3453 to be effective 10/26/2018.

Filed Date: 8/30/18.

Accession Number: 20180830-5211.

Comments Due: 5 p.m. ET 9/20/18.

Docket Numbers: ER18-2356-000.

Applicants: Florida Power Development LLC.

Description: Tariff Cancellation: MBR Tariff cancellation to be effective9/30/2018.

Filed Date: 8/30/18.

Accession Number: 20180830-5212.

Comments Due: 5 p.m. ET 9/20/18.

Docket Numbers: ER18-2357-000.

Applicants: Interstate Power and Light Company.

Description: § 205(d) Rate Filing: IPL—Hearland—CIPCO LBA Agreement to be effective 10/29/2018.

Filed Date: 8/30/18.

Accession Number: 20180830-5213.

Comments Due: 5 p.m. ET 9/20/18.

Docket Numbers: ER18-2358-000.

Applicants: GridLiance High Plains LLC, Southwest Power Pool, Inc.

Description: § 205(d) Rate Filing: Revisions to Add Oklahoma Panhandle Facilities for GridLiance High Plains LLC to be effective 11/1/2018.

Filed Date: 8/30/18.

Accession Number: 20180830-5216.

Comments Due: 5 p.m. ET 9/20/18.

Docket Numbers: ER18-2359-000.

Applicants: PJM Interconnection, L.L.C.

Description: § 205(d) Rate Filing: Second Revised ISA SA No. 2832; Queue #AC1-181 to be effective8/28/2018.

Filed Date: 8/30/18.

Accession Number: 20180830-5218.

Comments Due: 5 p.m. ET 9/20/18.

Docket Numbers: ER18-2360-000.

Applicants: California Independent System Operator Corporation.

Description: § 205(d) Rate Filing: 2018-08-30 EIM Agreement with Balancing Authority of Northern California to be effective 10/30/2018.

Filed Date: 8/30/18.

Accession Number: 20180830-5222.

Comments Due: 5 p.m. ET 9/20/18.

Docket Numbers: ER18-2361-000.

Applicants: Enel Green Power Hilltopper Wind, LLC.

Description: Baseline eTariff Filing: MBR Tariff to be effective9/1/2018.

Filed Date: 8/30/18.

Accession Number: 20180830-5223.

Comments Due: 5 p.m. ET 9/20/18.

Docket Numbers: ER18-2362-000.

Applicants: NTE Ohio, LLC.

Description: Baseline eTariff Filing: Baseline new rates to be effective9/1/2018.

Filed Date: 8/30/18.

Accession Number: 20180830-5227.

Comments Due: 5 p.m. ET 9/20/18.

Docket Numbers: ER18-2363-000.

Applicants: Midcontinent Independent System Operator, Inc.

Description: § 205(d) Rate Filing: 2018-08-31_Refiling of Resource Adequacy Construct Locational Enhancements to be effective 11/1/2018.

Filed Date: 8/31/18.

Accession Number: 20180831-5128.

Comments Due: 5 p.m. ET 9/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2018.
Nathaniel J. Davis, Sr.,
Deputy Secretary.

[FR Doc. 2018-19408 Filed 9-6-18; 8:45 am]

BILLING CODE 6717-01-P